DEPARTMENT OF HOMELAND SECURITY

Federal Emergency Management Agency

44 CFR Part 67

[Docket ID FEMA-2010-0003; Internal Agency Docket No. FEMA-B-1145]

Proposed Flood Elevation Determinations

AGENCY: Federal Emergency Management Agency, DHS.

ACTION: Proposed rule; correction.

SUMMARY: On October 7, 2010, FEMA published in the Federal Register a proposed rule that contained an erroneous table. This notice provides corrections to that table, to be used in lieu of the information published at 75 FR 62061. The table provided here represents the flooding sources, location of referenced elevations, effective and modified elevations, and communities affected for Cecil County, Maryland, and Incorporated Areas. Specifically, it addresses the following flooding sources: Back Creek, Big Elk Creek, Bohemia River, Chesapeake and Delaware Canal, Christina River, Dogwood Run, Gravelly Run, Hall Creek, Herring Creek, Laurel Run, Little Bohemia Creek, Little Elk Creek, Little Northeast Creek, Long Creek, Mill Creek, Mill Creek (Tributary to Little Elk Creek), Northeast Creek, Perch Creek, Plum Creek, Susquehanna River, Tributary 1 to Stone Run, Unnamed Tributary to Laurel Run, West Branch Christina River, and West Branch Laurel Run.

DATES: Comments are to be submitted on or before November 26, 2012.

ADDRESSES: You may submit comments, identified by Docket No. FEMA-B-1145, to Luis Rodriguez, Chief, Engineering Management Branch, Federal Insurance and Mitigation Administration, Federal Emergency Management Agency, 500 C Street SW., Washington, DC 20472, (202) 646-4064 or (email) Luis.Rodriguez3@fema.dhs.gov.

FOR FURTHER INFORMATION CONTACT: Luis Rodriguez, Chief, Engineering Management Branch, Federal Insurance and Mitigation Administration, Federal Emergency Management Agency, 500 C Street SW., Washington, DC 20472, (202) 646-4064 or (email) Luis.Rodriguez3@fema.dhs.gov.

SUPPLEMENTARY INFORMATION: The Federal Emergency Management Agency (FEMA) publishes proposed determinations of Base (1% annual-chance) Flood Elevations (BFEs) and modified BFEs for communities participating in the National Flood Insurance Program (NFIP), in accordance with section 110 of the Flood Disaster Protection Act of 1973, 42 U.S.C. 4104, and 44 CFR 67.4(a).

These proposed BFEs and modified BFEs, together with the floodplain management criteria required by 44 CFR 60.3, are minimum requirements. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Corrections

In the proposed rule published at 75 FR 62061, in the October 7, 2010, issue of the Federal Register, FEMA published a table under the authority of 44 CFR 67.4. The table, entitled “Cecil County, Maryland, and Incorporated Areas” addressed the following flooding sources: Back Creek, Big Elk Creek, Bohemia River, Chesapeake and Delaware Canal, Christina Creek, Dogwood Run, Gravelly Run, Hall Creek, Herring Creek, Laurel Run, Little Bohemia Creek, Little Elk Creek, Little Northeast Creek, Long Creek, Mill Creek, Mill Creek (Tributary to Little Elk Creek), Northeast Creek, Perch Creek, Plum Creek, Susquehanna River, Tributary 1 to Stone Run, Unnamed Tributary to Laurel Run, West Branch Christina River, and West Branch Laurel Run.

That table contained inaccurate information as to the location of referenced elevation, effective and modified elevation in feet, and/or communities affected for the following flooding sources: Big Elk Creek, Christina Creek, Dogwood Run, Little Elk Creek, Little Northeast Creek, Mill Creek, Northeast Creek, Tributary 1 to Stone Run, and West Branch Christina River. It also did not include the flooding source Tributary 2 to Stone Run, and the flooding source Christina River was erroneously referred to as Christina Creek. Additionally, the Town of Perryville has been added as a community affected by Mill Creek. In this notice, FEMA is publishing a table containing the accurate information, to address these prior errors. The information provided below should be used in lieu of that previously published.

Flooding source(s) | Location of referenced elevation ** | * Elevation in feet (NGVD) | + Elevation in feet (NAVD) | # Depth in feet above ground | ^ Elevation in meters (MSL): Effective | ^ Elevation in meters (MSL): Modified | Communities affected
Cecil County, Maryland, and Incorporated Areas
Back Creek | Approximately 224 feet downstream of 2nd Street | None | +11 | Unincorporated Areas of Cecil County.
| Approximately 1,136 feet upstream of Old Telegraph Road | None | +11
Big Elk Creek | Approximately 0.68 mile downstream of West Pulaski Road | None | +11 | Town of Elkton, Unincorporated Areas of Cecil County.
| Approximately 1,140 feet downstream of Elk Mills Road | None | +81
Bohemia River | At Augustine Herman Highway | None | +11 | Unincorporated Areas of Cecil County.
| Approximately 860 feet upstream of Old Telegraph Road | None | +11
Chesapeake and Delaware Canal | Approximately 0.92 mile upstream of Augustine Herman Highway | None | +11 | Unincorporated Areas of Cecil County.
| Approximately 1.96 miles upstream of Augustine Herman Highway | None | +11
Christina River | At the New Castle County boundary | +159 | +160 | Unincorporated Areas of Cecil County.
| Approximately 100 feet downstream of the Chester County boundary | +267 | +268
Dogwood Run | At the Little Elk Creek confluence | +21 | +22 | Town of Elkton, Unincorporated Areas of Cecil County.
| Approximately 60 feet downstream of Blue Ball Road | +30 | +27
Gravelly Run | At the Little Elk Creek confluence | None | +50 | Unincorporated Areas of Cecil County.
| Approximately 246 feet downstream of Blue Ball Road | None | +57
Hall Creek | At Glebe Road | None | +11 | Unincorporated Areas of Cecil County.
| Approximately 0.86 mile upstream of Mill Lane | None | +11
Herring Creek | Approximately 2.74 miles downstream of Augustine Herman Highway | None | +11 | Unincorporated Areas of Cecil County.
| Approximately 1,609 feet downstream of Augustine Herman Highway | None | +11
Laurel Run | At the Little Elk Creek confluence | None | +40 | Unincorporated Areas of Cecil County.
| Approximately 1,500 feet downstream of the West Branch Laurel Run confluence | None | +59
Little Bohemia Creek | At the Bohemia Creek confluence | None | +11 | Unincorporated Areas of Cecil County.
| At Bohemia Church Road | None | +11
Little Elk Creek | Approximately 631 feet downstream of West Pulaski Highway | +11 | +14 | Town of Elkton, Unincorporated Areas of Cecil County.
| Approximately 1,220 feet downstream of Elkton Road | +15 | +16
Little Elk Creek | Approximately 425 feet downstream of the Laurel Run confluence | None | +39 | Unincorporated Areas of Cecil County.
| Approximately 910 feet downstream of Heron Lane | None | +58
Little Northeast Creek | Approximately 210 feet upstream of Pulaski Highway | +37 | +38 | Unincorporated Areas of Cecil County.
| Approximately 757 feet downstream of Chessie System Railroad | +76 | +74
Long Creek | At Boat Yard Road | None | +11 | Unincorporated Areas of Cecil County.
| At Woods Road | None | +11
Mill Creek | Approximately 1,095 feet downstream of Access Road | +11 | +12 | Town of Perryville, Unincorporated Areas of Cecil County.
| Approximately 260 feet downstream of Principio Road | +283 | +284
Mill Creek (Tributary to Little Elk Creek) | Approximately 1,624 feet downstream of Old Elk Neck Road | None | +11 | Unincorporated Areas of Cecil County.
| Approximately 1,939 feet upstream of Old Elk Neck Road | None | +11
Northeast Creek | Approximately 542 feet downstream of Main Street | +11 | +12 | Town of North East, Unincorporated Areas of Cecil County.
| Approximately 125 feet downstream of Chessie System Railroad | +71 | +72
Perch Creek | Approximately 0.49 mile downstream of Augustine Herman Highway | None | +11 | Unincorporated Areas of Cecil County.
| At Augustine Herman Highway | None | +11
Plum Creek | Approximately 1.32 miles downstream of Old Field Point Road | None | +11 | Unincorporated Areas of Cecil County.
| Approximately 1,154 feet upstream of Old Elk Neck Road | None | +11
Susquehanna River | Approximately 1.75 miles upstream of I-95 | +11 | +12 | Unincorporated Areas of Cecil County.
| At U.S. Route 1 | +37 | +38
Tributary 1 to Stone Run | At the Stone Run confluence | +274 | +271 | Town of Rising Sun, Unincorporated Areas of Cecil County.
| Approximately 460 feet downstream of Pierce Road | None | +359
Tributary 2 to Stone Run | At the Stone Run confluence | +274 | +271 | Town of Rising Sun, Unincorporated Areas of Cecil County.
| At the upstream side of Harrington Drive | +310 | +312
Unnamed Tributary to Laurel Run | Approximately 230 feet upstream of the Laurel Run confluence | None | +41 | Unincorporated Areas of Cecil County.
| Approximately 1,400 feet upstream of the Laurel Run confluence | None | +52
West Branch Christina River | Approximately 600 feet upstream of the Newcastle County boundary | +107 | +108 | Unincorporated Areas of Cecil County.
| Approximately 250 feet upstream of Jackson Hall School Road | +195 | +193
West Branch Laurel Run | Approximately 494 feet upstream of the Laurel Run confluence | None | +64 | Unincorporated Areas of Cecil County.
| Approximately 93 feet upstream of Marley Road | None | +74
* National Geodetic Vertical Datum.
# Depth in feet above ground.
+ North American Vertical Datum.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
Town of Elkton
Maps are available for inspection at the Municipal Building, 100 Railroad Avenue, Elkton, MD 21921.
Town of North East
Maps are available for inspection at the Town Hall, 106 South Main Street, North East, MD 21901.
Town of Perryville
Maps are available for inspection at the Municipal Building, 515 Broad Street, Perryville, MD 21903.
Town of Rising Sun
Maps are available for inspection at the Municipal Building, 1 East Main Street, Rising Sun, MD 21911.
Unincorporated Areas of Cecil County
Maps are available for inspection at the Cecil County Office of Planning and Zoning, 200 Chesapeake Boulevard, Suite 2300, Elkton, MD 21921.

(Catalog of Federal Domestic Assistance No. 97.022, “Flood Insurance.”)

Dated: August 8, 2012.
Sandra K. Knight,
Deputy Associate Administrator for Mitigation, Department of Homeland Security, Federal Emergency Management Agency.

[FR Doc. 2012-20984 Filed 8-24-12; 8:45 am]

BILLING CODE 9110-12-P